DEPARTMENT OF TRANSPORTATION

Federal Motor Carrier Safety Administration

[Docket No. FMCSA-2021-0052]

Hours of Service (HOS) of Drivers; American Pyrotechnics Association (APA)

AGENCY: Federal Motor Carrier Safety Administration (FMCSA), Department of Transportation (DOT).

ACTION: Notice of final disposition; grant of application for exemptions.

SUMMARY: FMCSA announces its decision to renew exemptions from certain hours of service (HOS) regulations for 44 APA member companies during designated Independence Day periods. The exemptions allow drivers of these companies to exclude off-duty and sleeper berth time of any length from the calculation of the 14-hour limit and to use paper records of duty status (RODS) in lieu of electronic logging devices (ELDs). FMCSA has analyzed the application for exemptions and the public comments and has determined that the exemptions, subject to the terms and conditions set forth below, will likely achieve a level of safety that is equivalent to or greater than the level that would be achieved in the absence of the exemptions.

DATES: The exemptions are effective for the period June 28 through July 8, at 11:59 p.m. local time, each year from 2025 through 2029.

FOR FURTHER INFORMATION CONTACT: Ms. Pearlie Robinson, FMCSA Driver and Carrier Operations Division; Office of Carrier, Driver and Vehicle Safety Standards; (202) 366-9220; pearlie.robinson@dot.gov. If you have questions on viewing or submitting material to the docket, contact Docket Services, telephone (202) 366-9826.

SUPPLEMENTARY INFORMATION:

I. Public Participation

Viewing Comments and Documents

To view any documents mentioned as being available in the docket, go to https://www.regulations.gov/docket/FMCSA-2021-0052/document and choose the document to review. To view comments, click this notice, then click “Browse Comments.” If you do not have access to the internet, you may view the docket online by visiting Dockets Operations on the ground floor of the DOT West Building, 1200 New Jersey Avenue SE, Washington, DC 20590-0001, between 9 a.m. and 5 p.m., Monday through Friday, except Federal holidays. To be sure someone is there to help you, please call (202) 366-9317 or (202) 366-9826 before visiting Dockets Operations.

II. Legal Basis

FMCSA has authority under 49 U.S.C. 31136(e) and 31315(b) to grant exemptions from the Federal Motor Carrier Safety Regulations (FMCSRs). FMCSA must publish a notice of each exemption request in the Federal Register (49 CFR 381.315(a)). The Agency must provide the public an opportunity to inspect the information relevant to the application, including the applicant's safety analysis. The Agency must provide an opportunity for public comment on the request.

The Agency reviews applications, safety analyses, and public comments submitted and determines whether granting the exemption would likely achieve a level of safety equivalent to, or greater than, the level that would be achieved absent such exemption, pursuant to the standard set forth in 49 U.S.C. 31315(b)(1). The Agency must publish its decision in the Federal Register (49 CFR 381.315(b)). If granted, the notice will identify the regulatory provision from which the applicant will be exempt, the effective period and all terms and conditions of the exemption (49 CFR 381.315(c)(1)). If the exemption is denied, the notice will explain the reason for the denial (49 CFR 381.315(c)(2)). The exemption may be renewed (49 CFR 381.300(b)).

III. Background

Current Regulatory Requirements

The HOS regulation in 49 CFR 395.3(a)(2) prohibits the driver of a property-carrying commercial motor vehicle (CMV) from driving after the 14th hour after coming on duty following 10 consecutive hours off duty. Drivers required to prepare RODS must do so using ELDs under 49 CFR 395.8(a)(1)(i). However, under 49 CFR 395.8(a)(1)(iii)(A)(1), a motor carrier may allow its drivers to record their duty status manually, rather than use an ELD, if the driver is operating a CMV “[i]n a manner requiring completion of a record of duty status on not more than 8 days within any 30-day period.”

Application for Renewal of Exemption

The renewal application from APA was described in detail in a Federal Register notice of April 18, 2025 (90 FR 16587) and will not be repeated here as the facts have not changed since then.

IV. Public Comments

Two comments were submitted to the docket, one supporting and the other opposing the exemption renewal. Paul Catucci said, “This exemption is vital for the fireworks industry. Over 80% of the business is done in less than two weeks. Unlike other industries where something is delayed a couple days it's no big deal the Fourth of July can't be delayed a day.” An anonymous individual opposed the renewal and said, “This exemption should NOT be granted, several of these carriers don't follow and comply with the DOT rules during normal non-peak seasons. . . . They are hauling HAZMAT with a very high likely hood [sic] of an accident becoming a major incident requiring multi agency response. To let them have less supervision, reporting, and remove the safety controls when they are stress [sic] and already looking for ways to cut corners is illogical.”

V. FMCSA Decision

FMCSA has evaluated APA's application and the safety records of 44 APA member companies to which the exemptions would apply and grants the exemptions. FMCSA ensured that each motor carrier possessed an active USDOT registration, minimum required levels of insurance, and was not subject to any “imminent hazard” or other out-of-service (OOS) orders. The Agency conducted a comprehensive review of the safety performance history on each of the motor carriers listed in the appendix table during the review process. As part of this process, FMCSA reviewed its Motor Carrier Management Information System safety records, including inspection and crash reports submitted to FMCSA by State agencies. The motor carriers have “satisfactory” safety ratings issued by FMCSA and valid Hazardous Materials Safety Permits. In addition, the Pipeline and Hazardous Materials Safety Administration reviewed its investigative records and found no adverse data.

Based on the information provided in APA's application, FMCSA concludes that the exemptions, subject to the terms and conditions set forth in section VII, would likely achieve a level of safety that is equivalent to, or greater than, the level that would be achieved absent such exemptions, in accordance with 49 U.S.C. 31315(b)(1).

VI. Exemption Decision

FMCSA grants the exemptions for a period of five years subject to the terms and conditions of this decision. The exemptions from the requirements of 49 CFR 395.3(a)(2) and 49 CFR 395.8(a)(1)(i) are effective for the period June 28 through July 8 each year from 2025 through 2029.

A. Applicability of Exemptions

The exemptions are limited to drivers employed by the 42 motor carriers previously covered by the exemptions, and drivers employed by the 2 additional carriers identified by an asterisk in the appendix table of this notice. Drivers covered by these exemptions will be able to exclude off-duty and sleeper-berth time of any length from the calculation of the 14-hour limit. Drivers will be able to use paper RODs in lieu of ELDs to record their HOS.

B. Terms and Conditions

When operating under these exemptions, motor carriers and drivers are subject to the following terms and conditions:

1. Drivers must not drive more than 11 hours after accumulating 14 hours on duty prior to beginning a new driving period.

2. Drivers must have 10 consecutive hours off duty following 14 hours on duty prior to beginning a new driving period.

3. Drivers must use paper RODS and supporting documents, maintain RODS and supporting documents for 6 months from the date the record is prepared, and make RODS and supporting documents accessible to law enforcement upon request.

4. Drivers and carriers subject to the ELD requirements before June 28 must continue to use ELDs and comply with all ELD requirements, including maintaining ELD data for 6 months from the date the electronic record is generated and making ELD data accessible to law enforcement upon request.

5. Drivers must maintain a valid CDL with a hazardous materials endorsement and not be subject to an out-of-service order or loss of driving privileges.

6. Motor carriers must maintain a Hazardous Materials Safety Permit and Satisfactory safety rating assigned by FMCSA under the procedures in 49 CFR part 385.

7. Motor carriers must ensure their CMVs are properly marked as required by 49 CFR 390.21.

8. Motor carriers must ensure they comply with the requirements for shipping papers, package marking, labeling, and placarding in 49 CFR part 172.

9. Drivers and motor carriers covered by the exemptions must comply with all other applicable provisions of the Federal Motor Carrier Safety Regulations (49 CFR parts 350-399) (FMCSRs) and Hazardous Materials Regulations (49 CFR parts 105-180) (HMRs).

10. Prior to the beginning of each Independence Day period these exemptions are in effect, FMCSA will ensure that each motor carrier possesses an active USDOT registration, minimum required levels of insurance, and was not subject to any “imminent hazard” or other out-of-service (OOS) orders. FMCSA will also conduct a comprehensive review of the safety performance history on each of the motor carriers listed in the appendix table during the review process. As part of this process, FMCSA will review its Motor Carrier Management Information System safety records, including inspection and crash reports submitted to FMCSA by State agencies.

11. Motor carriers may be investigated to evaluate compliance with the terms and conditions of these exemptions, in addition to the FMCSRs and HMR.

12. Motor carriers using exempt drivers must notify FMCSA within 5 business days of any accident (as defined in 49 CFR 390.5), involving any of the motor carrier's CMVs operating under the terms of these exemptions. The notification must include the following information:

a. Identifier of the Exemption: “APA”;

b. Name of operating carrier and USDOT number;

c. Date of the accident;

d. City or town, and State, in which the accident occurred, or closest to the

accident scene;

e. Driver's name and license number;

f. Co-driver's name (if any) and license number;

g. Vehicle number and State license number;

h. Number of individuals suffering physical injury;

i. Number of fatalities;

j. The police-reported cause of the crash, if provided by the enforcement agency;

k. Whether the driver was cited for violation of any traffic laws, motor carrier safety regulations; and

l. The total on-duty time accumulated during the 7 consecutive days prior to the date of the crash, and the total on-duty time and driving time in the work shift prior to the crash. The motor carrier must provide a copy of the driver's records of duty status for the day of the crash and the prior 7 days upon request.

Reports filed under this provision shall be emailed to MCPSD@DOT.GOV with APA's name and docket number FMCSA-2021-0052 in the subject line.

C. Preemption

In accordance with 49 U.S.C. 31315(d), as implemented by 49 CFR 381.600, during the period these exemptions are in effect, no State shall enforce any law or regulation applicable to interstate commerce that conflicts with or is inconsistent with these exemptions with respect to a firm or person operating under the exemptions. States may, but are not required to, adopt the same exemptions with respect to operations in intrastate commerce.

VII. Termination

FMCSA does not believe the drivers covered by these exemptions will experience any deterioration of their safety record. The exemptions will be rescinded if: (1) motor carriers or the drivers operating under the exemptions fail to comply with the terms and conditions of the exemptions; (2) the exemptions have resulted in a lower level of safety than was maintained before it was granted; (3) the annual investigation yields unsatisfactory results; or (4) continuation of the exemptions would not be consistent with the goals and objects of 49 U.S.C. 31136(e) and 31315(b).

Sue Lawless,
Assistant Administrator.

Appendix to Notice of Applications for Renewal of APA Exemptions From the 14-Hour and ELD HOS Rules for Independence Day Periods

June 28, Through July 8, during 2025 Through 2029, for 44 Motor Carriers
Motor carrier | Street address | City, state, zip code | DOT No.
1. American Fireworks Display, LLC | 105 County Route 7 | McDonough, NY 13801 | 2115608
2. AM Pyrotechnics, LLC | 2429 East 535th Rd | Buffalo, MO 65622 | 1034961
3. Arthur Rozzi Pyrotechnics | 6607 Red Hawk Ct | Maineville, OH 45039 | 2008107
4. Artisan Pyrotechnics, Inc | 82 Grace Road | Wiggins, MS 39577 | 1898096
5. Celebration Fireworks, Inc | 7911 7th Street | Slatington, PA 18080 | 1527687
6. CP Transport, LLC | 6377 Hwy. 62 NE | Lanesville, IN 47136 | 3076205
7. Extreme Logistics, LLC | 26926 Hardy Run | Boerne, TX 78015 | 1971328
8. Falcon Fireworks | 3411 Courthouse Road | Guyton, GA 31312 | 1037954
9. Fireworks & Stage FX America | 12650 Hwy 67S. Suite B | Lakeside, CA 92040 | 908304
10. Fireworks by Grucci, Inc | 20 Pinehurst Drive | Bellport, NY 11713 | 324490
11. Aluminum King Mfg., Ltd. dba Flashing Thunder Fireworks | 700 E Van Buren Street | Mitchell, IA 50461 | 420413
12. Great Lakes Fireworks | 24805 Marine | Eastpointe, MI 48021 | 1011216
13. Hamburg Fireworks Display, Inc | 2240 Horns Mill SE | Lancaster, OH | 395079
14. *Hawaii Explosives & Pyrotechnics, Inc | PO Box 1244 | Keaau, HI 96749 | 1375918
15. Herbie's Famous Fireworks | 1406 Cherokee Falls Rd | Blacksburg, SC 29702 | 0112743
16. J&J Computing dba Fireworks Extravaganza | 174 Route 17 North | Rochelle Park, NJ 07662 | 2064141
17. J&M Displays, Inc | 18064 170th Ave | Yarmouth, IA 52660 | 377461
18. *JPI Pyrotechnics LLC | 10 Bartlett St | Allenstown, NH 03275 | 2783896
19. Johnny Rockets Fireworks Display Company | 3240 Love Rock | Steger, IL 60475 | 1263181
20. Las Vegas Display Fireworks, Inc | 4325 West Reno Ave | Las Vegas, NV 89118 | 3060878
21. Legion Fireworks Co., Inc | 10 Legion Lane | Wappingers Falls, NY 12590 | 554391
22. Magic in the Sky, LLC | 27002 Campbellton Road | San Antonio, TX 78264 | 2134163
23. Miand Inc. dba Planet Productions (Mad Bomber) | PO Box 294, 3999 Hupp Road R31 | Kingsbury, IN 46345 | 777176
24. Pyro Productions Inc | 2083 Helms Road | Rehobeth, AL 36301 | 3723192
25. Pyro Shows, East Coast | 4652 Catawba River Road | Catawba, SC 29704, 12SSCSC2229729704 LaFollette, TN 37766 | 3709087
26. Pyro Shows of Alabama, Inc | 3325 Poplar Lane | Adamsville, AL 35005 | 2859710
27. Pyro Shows of Texas, Inc | 6601 9 Mile Azle Rd | Fort Worth, TX 76135 | 2432196
28. Pyro Spectaculars, Inc | 3196 N Locust Ave | Rialto, CA 92376 | 029329
29. Pyro Spectaculars North, Inc | 5301 Lang Avenue | McClellan, CA 95652 | 1671438
30. Pyrotecnico Fireworks Inc | 299 Wilson Rd | New Castle, PA 16105 | 526749
31. Rainbow Fireworks, Inc | 76 Plum Ave | Inman, KS 67546 | 1139643
32. RES Specialty Pyrotechnics dba RES Pyro | 21595 286th St | Belle Plaine, MN 56011 | 523981
33. RKM Fireworks Company | 27383 May St | Edwardsburg, MI 49112 | 1273436
34. Rozzi's Famous Fireworks, Inc | 118 Karl Brown Way | Loveland, OH 45140 | 0483686
35. Santore's World Famous Fireworks, LLC | 846 Stillwater Bridge Road | Schaghticoke, NY 12154 | 2574135
36. Southern Sky Fireworks, LLC | 6181 Denham Rd | Sycamore, GA 31790-2603 | 3168056
37. Spielbauer Fireworks Co, Inc | 1976 Lane Road | Green Bay, WI 54311 | 046479
38. Special FX Wizard, Inc | Box 266 | Mastick Beach, NY 11951 | 3442905
39. Starfire Corporation | 682 Cole Road | Carrolltown, PA 15722 | 554645
40. Vermont Fireworks Co., dba Northstar Fireworks Co., Inc | 2235 Vermont Route 14 South | East Montpelier, VT 05651 | 310632
41. Western Display Fireworks, Ltd | 10946 S. New Era Rd | Canby, OR 97013 | 498941
42. Wolverine Fireworks Display, Inc | 205 W Seidlers | Kawkawlin, MI | 376857
43. Young Explosives Corp | 2165 New Michigan Rd | Canandaigua, NY 14618 | 450304
Zambelli Fireworks MFG, Co., Inc | 120 Marshall Drive | Warrendale, PA 15086 | 033167

[FR Doc. 2025-11758 Filed 6-25-25; 8:45 am]

BILLING CODE 4910-EX-P